DEPARTMENT OF HEALTH AND HUMAN SERVICES

Centers for Disease Control and Prevention

[60Day-10-10BG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Voluntary Environmental Assessment Information System (NVEAIS)—New—National Center for Environmental Health (NCEH), Centers for Disease Control and Prevention (CDC).

Background and Brief Description

The CDC is requesting OMB approval for a National Voluntary Environmental Assessment Information System to collect data from food- and waterborne illness outbreak environmental assessments routinely conducted by local, State, territorial, or tribal food and water safety programs during outbreak investigations. Environmental assessment data are not currently collected at the national level. The data reported through this information system will provide timely data on the causes of outbreaks, including environmental factors associated with outbreaks, and are essential to environmental public health regulators' efforts to respond more effectively to outbreaks and prevent future, similar outbreaks. This information system is specifically designed to link to CDC's existing disease outbreak surveillance system (National Outbreak Reporting System).

The information system was developed by the Environmental Health Specialists Network (EHS-Net), a collaborative project of CDC, the U.S. Food and Drug Administration (FDA), the U.S. Department of Agriculture (USDA), and nine states (California, Connecticut, Georgia, Iowa, New York, Minnesota, Oregon, Rhode Island, and Tennessee). The network consists of environmental health specialists (EHSs), epidemiologists, and laboratorians. The EHS-Net has developed a standardized protocol for identifying, reporting, and analyzing data relevant to food- and waterborne illness outbreak environmental assessments.

The information to be reported to NVEAIS will be obtained from environmental assessments routinely conducted by state, local, tribal and territorial food and water safety program officials in response to food- and waterborne illness outbreaks. While conducting environmental assessments during outbreak investigations is routine for food and water safety program officials, reporting information from the environmental assessments to CDC is not. Thus, state, local, tribal, and territorial food and water safety program officials are the respondents for this data collection. However, participation in the system is voluntary.

There are approximately 3,000 public health departments (where food and water safety programs are typically located) in the United States. Many of these departments have separate food and water safety programs. If a public health department chooses to participate in NVEAIS, there will likely be two respondents from that department—one person responsible for reporting foodborne outbreak environmental assessment data to NVEAIS and one person responsible for reporting waterborne outbreak environmental assessment data to NVEAIS. Thus, although it is not possible to determine how many departments will choose to participate, as NVEAIS is voluntary, the maximum potential number of respondents is approximately 6,000 (one for each food safety program and one for each water safety program in each public health department).

It is not possible to determine exactly how many outbreaks will occur in the future, nor where they will occur. However, we can estimate, based on existing data, that a maximum of 1,600 illness outbreaks (1,100 foodborne and 500 waterborne) will occur annually. Only respondents in the jurisdictions in which these outbreaks occurred would report to NVEAIS. Thus, not every respondent will respond every year. Thus, we have based our respondent burden estimate on the number of outbreaks likely to occur each year, rather than the number of potential respondents. Assuming each outbreak occurs in a different jurisdiction, there will be one respondent per outbreak. Each respondent will respond only once per outbreak investigated and the average burden per response will be approximately 120 minutes. Thus, the estimated total annual burden to report is 3,200 hours.

There is no cost to the respondents other than their time.

Estimated Annualized Burden Hours
Respondents | Number of respondents | Number of responses per respondent | Average burden per response (in hours) | Total burden (in hours)
Food safety program officials | 1,100 | 1 | 2 | 2,200
Water safety program officials | 500 | 1 | 2 | 1,000
Total |  |  |  | 3,200

Dated: January 26, 2010.
Maryam I. Daneshvar,
Acting Reports Clearance Officer, Centers for Disease Control and Prevention.

[FR Doc. 2010-2058 Filed 1-29-10; 8:45 am]

BILLING CODE 4163-18-P